DEPARTMENT OF DEFENSE

Department of the Navy

Meetings of the Naval Research Advisory Committee

AGENCY: Department of the Navy, DOD.

ACTION: Notice of closed meetings.

SUMMARY: The Naval Research Advisory Committee (NRAC) will meet to hold classified briefs of proprietary information. All sessions of the meetings will be devoted to briefings, discussions and technical examination of information related to the assessment of modern lighter than air applications and their potential value for the full spectrum of Navy missions from an affordability and utility perspective and to meet current and new threat needs. The sessions will also identify, review, and assess technologies for reducing fuel consumption and for militarily useful alternative fuels.

DATES: The meetings will be held on Monday, July 18, 2005, through Friday, July 22, 2005, from 8 a.m. to 5 p.m.; Monday, July 25, 2005, through Thursday, July 28, 2005, from 8 a.m. to 5 p.m.; and Friday, July 29, 2005, from 8 a.m. to 11 a.m.

ADDRESSES: The meetings will be held at the Space and Naval Warfare Systems Center, San Diego, CA 92152.

FOR FURTHER INFORMATION CONTACT: Dr. Sujata Millick, Program Director, Naval Research Advisory Committee, 875 North Randolph Street, Arlington, VA 22203-1995, 703-696-6769.

SUPPLEMENTARY INFORMATION: This notice is provided in accordance with the provisions of the Federal Advisory Committee Act (5 U.S.C. App. 2). All sessions of the meeting will be devoted to executive sessions that will include discussions and technical examination of information related to lighter than air and fuels technologies. These briefings and discussions will contain proprietary information and classified information that is specifically authorized under criteria established by Executive Order to be kept secret in the interest of national defense and are in fact properly classified pursuant to such Executive Order. The proprietary, classified and non-classified matters to be discussed are so inextricably intertwined as to preclude opening any portions of the meetings. In accordance with 5 U.S.C. App. 2, section 10(d), the Secretary of the Navy has determined in writing that the public interest requires that all sessions of the meetings be closed to the public because they will be concerned with matters listed in 5 U.S.C. section 552b(c)(1) and (4).

Dated: June 29, 2005.
I.C. Le Moyne Jr.,
Lieutenant, Judge Advocate General's Corps, U.S. Navy, Alternate Federal Register Liaison Officer.

[FR Doc. 05-13423 Filed 7-7-05; 8:45 am]

BILLING CODE 3810-FF-P